DEPARTMENT OF HOUSING AND URBAN DEVELOPMENT

[Docket No. 5736-FA-01]

Announcement of Funding Awards; Capital Fund Safety and Security Grants; Fiscal Year 2013

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Safety and Security funds with PIH Notice 2013-10 (Notice), which was issued May 3, 2013. Public Housing Authorities (PHAs) were funded in accordance with the terms of the Notice. This announcement contains the consolidated names and addresses of this year's award recipients under the Capital Fund Safety and Security grant program.

FOR FURTHER INFORMATION CONTACT: For questions concerning the Safety and Security awards, contact Jeffrey Riddel, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Safety and Security program provides grants to PHAs for physical safety and security measures necessary to address crime and drug-related emergencies. More specifically, in accordance with Section 9 of the United States Housing Act of 1937 (42 U.S.C. 1437g) (1937 Act), and Public Law 113-6 (Department of Housing and Urban Development Appropriations Act, 2013) (FY 2013 appropriations), Congress appropriated funding to provide assistance to “public housing agencies for emergency capital needs including safety and security measures necessary to address crime and drug-related activity as well as needs resulting from unforeseen or unpreventable emergencies and natural disasters excluding Presidentially declared disasters occurring in fiscal year [2013].”

The FY 2013 awards in this Announcement were evaluated for funding based on the criteria in the Notice. These awards are funded from the set-aside in the FY 2013 appropriations.

In accordance with Section 102(a)(4)(C) of the Department of Housing and Urban Development Reform Act of 1989 (103 Stat.1987, 42 U.S.C. 3545), the Department is publishing the names, addresses, and amounts of the 15 awards made under the set aside in Appendix A to this document.

Dated: August 30, 2013.
Deborah Hernandez,
General Deputy Assistant Secretary for Public and Indian Housing.

Appendix A—Capital Fund Safety and Security Program FY2013 Awards
Name/Address of applicant | Amount funded | Project description
Decatur Housing Authority; 750 Commerce Drive, Ste 110; Decatur, GA 30030-3001 | $250,000 | Security Cameras, Lighting, Doors, Alarm System.
McDonough Housing Authority; 345 Simpson Street; McDonough, GA 30253-3417 | 250,000 | Security Cameras.
Housing Authority of the City of Winder 11; Horton Street PO Box 505; Winder, GA 30680-2078 | 50,080 | Security Cameras, Lighting.
Quincy Housing Authority; 540 Harrison Street; Quincy, IL 62301-7236 | 242,500 | Security Cameras, Lighting.
Housing Authority of Pope County; 802 S. Franklin St.; Golconda, IL 62938 | 175,000 | Security Cameras, Lighting.
Westbrook Housing Authority; 30 Liza Harmon Dr; Westbrook, ME 04092-4766 | 38,000 | Security Cameras, Lighting.
Housing Commission of Anne Arundel County; PO Box 817; Glen Burnie, MD 21060-2817 | 217,000 | Security Cameras, Access Control System, Lighting.
Mt. Pleasant Housing Commission; 1 W Mosher Street; Mount Pleasant, MI 48858-2392 | 177,644 | Security Camera System, Fencing, Lighting, Locks.
Housing Authority of City of Louisville; 605A West Main Street, PO Box 175; Louisville, MS 39339-2535 | 250,000 | Security Cameras, Fencing, Bullet Proof Glass for entry.
City of Concord Housing Department; 283 Harold Goodman Circle SW.; Concord, NC 28025-5442 | 250,000 | Security Alarm System, Fencing, Lighting, Locks.
Jersey City Housing Authority; 400 U.S. Highway #1, (Marion Gardens), Building #7; Jersey City, NJ 07306 | 152,000 | Security Cameras, Repair/Replace entrances.
Peekskill Housing Authority; 807 Main Street; Peekskill, NY 10566-2040 | 250,000 | Security Cameras, Lighting, Fencing, Doors.
Poughkeepsie Housing Authority; 4 Howard Street; Poughkeepsie, NY 12601 | 248,836 | Security Cameras, Security Display Monitors.
McKeesport Housing Authority; 2901 Brownlee Avenue; McKeesport, PA 15132 | 250,000 | Security Cameras, Lighting.
Monahans Housing Authority; 209 S Dwight Street; Monahans, TX 79756-4311 | 80,000 | Security Camera System.

[FR Doc. 2013-22283 Filed 9-12-13; 8:45 am]

BILLING CODE 4210-67-P